NUCLEAR REGULATORY COMMISSION

[NRC-2019-0257]

Information Collection: Nondiscrimination in Federally Assisted Programs or Activities Receiving Assistance From the Commission

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Nondiscrimination in Federally Assisted Programs or Activities Receiving Assistance from the Commission.”

DATES: Submit comments by November 13, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: InfoCollects.Resource@nrc.gov.

SUPPLEMENTARY INFORMATION:

I. Obtaining Information and Submitting Comments

A. Obtaining Information

Please refer to Docket ID NRC-2019-0257 when contacting the NRC about the availability of information for this action. You may obtain publicly available information related to this action by any of the following methods:

• Federal Rulemaking Website: Go to https://www.regulations.gov and search for Docket ID NRC-2019-0257.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement, burden spreadsheet, and NRC Forms 781 and 782 are available in ADAMS under Accession Nos. ML20224A170, ML20224A168, ML20224A166, and ML20224A167.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

Please include Docket ID NRC-2019-0257 in the subject line of your comment submission, in order to ensure that the NRC is able to make your comment submission available to the public in this docket.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a renewal of an existing collection of information to OMB for review entitled, 10 CFR part 4, “Nondiscrimination in Federally Assisted Programs or Activities Receiving Assistance from the Commission.” The NRC hereby informs potential respondents that an agency may not conduct or sponsor, and that a person is not required to respond to, a collection of information unless it displays a currently valid OMB control number.

The NRC published a Federal Register notice with a 60-day comment period on this information collection on June 8, 2020, (85 FR 34768).

1. The title of the information collection: 10 CFR part 4, Nondiscrimination in Federally Assisted Commission Programs or Activities Receiving Assistance from the Commission.

2. OMB approval number: 3150-0053.

3. Type of submission: Extension.

4. The form number if applicable: NRC Forms 781 and 782.

5. How often the collection is required or requested: On occasion. NRC Form 781, “SBCR Compliance Review” is a required form that should be submitted by the recipient upon initiation or modification of a program, during the pre-award and post-award stage, periodic monitoring, and, if a complaint is being processed during the pre-award application phase and upon request from an authorized NRC official during the post-award review phase. NRC Form 782, “Complaint Form” is submitted on occasion, if any person believes himself or any specific class of individuals have been subjected to discrimination prohibited by 10 CFR part 4, “Subpart A—Regulations Implementing Title VI of the Civil Rights Act of 1964 and Title IV of the Energy Reorganization Act of 1974 Discrimination Prohibited,” on behalf of the primary funding recipient or any other recipient that received NRC Federal financial assistance through the primary funding recipient. Self-evaluations are performed throughout the duration of obligation based on 10 CFR 4.231, “Responsibility of applicants and recipients.”

6. Who will be required or asked to respond: Recipients of Federal financial assistance provided by the NRC (including Educational Institutions, Other Non-profit Organizations receiving Federal financial assistance, and Agreement States).

7. The estimated number of annual responses: 502 (102 reporting responses + 200 recordkeeping responses + 200 third-party disclosure responses).

8. The estimated number of annual respondents: 200.

9. An estimate of the total number of hours needed annually to comply with the information collection requirement or request: 802 hours (102 hours reporting + 650 hours recordkeeping + 50 hours third-party disclosure).

10. Abstract: All recipients of Federal financial assistance from the NRC are subject to the provisions of 10 CFR part 4, “Nondiscrimination in Federally Assisted Programs or Activities Receiving Assistance from the Commission.” Respondents must notify participants, beneficiaries, applicants, and employees of nondiscrimination practices and keep records of Federal financial assistance and of their own self-evaluations of policies and practices. NRC Form 781, “SBCR Compliance Review” is a required form that should be submitted by the recipient upon initiation or modification of a program, during the pre-award and post-award stage, periodic monitoring, and, if a complaint is being processed during the pre-award application phase and upon request from an authorized NRC official during the post-award review phase. This information is necessary for determining whether any persons are or will be denied such services provided by the primary funding recipient on the basis of prohibited discrimination. In the event that discrimination is alleged in NRC-conducted and Federal financially assisted programs and activities, it may be reported using NRC Form 782.

Dated: October 7, 2020.
For the Nuclear Regulatory Commission.
David C. Cullison,
NRC Clearance Officer, Office of the Chief Information Officer.

[FR Doc. 2020-22610 Filed 10-13-20; 8:45 am]

BILLING CODE 7590-01-P